Title 3—

The President

Notice of March 24, 2004

Notice of Intention to Enter Into a Free Trade Agreement With the Dominican Republic

Consistent with section 2105(a)(1)(A) of the Trade Act of 2002, I have notified the Congress of my intention to enter into a free trade agreement with the Government of the Dominican Republic.

In accordance with section 2105(a)(1)(A) of that Act, this notice shall be published in the Federal Register.

B

THE WHITE HOUSE,

March 24, 2004.

[FR Doc. 04-7017

Filed 3-25-04; 10:42 am]

Billing code 3190-01-M